DEPARTMENT OF TRANSPORTATION

Federal Aviation Administration

14 CFR Parts 61 and 141

[Docket No. FAA-2014-0987; Amdt. Nos. 61-133, 141-18]

RIN 2120-AK62

Aviation Training Device Credit for Pilot Certification; Withdrawal

AGENCY: Federal Aviation Administration (FAA), DOT.

ACTION: Direct final rule; withdrawal.

SUMMARY: The FAA is withdrawing a direct final rule regarding aviation training devices published December 3, 2014. That rule would have relieved burdens on pilots seeking to obtain aeronautical experience for an instrument rating by increasing the allowed use of aviation training devices. The FAA received adverse comments to the direct final rule and, thus, is withdrawing the direct final rule.

DATES: The direct final rule published on December 3, 2014 at 79 FR 71634 is withdrawn, effective January 15, 2015.

FOR FURTHER INFORMATION CONTACT: For technical questions concerning this action, contact Marcel Bernard, Airmen Certification and Training Branch, Flight Standards Service, AFS-810, Federal Aviation Administration, 55 M Street SE., 8th floor, Washington, DC 20003-3522; telephone (202) 385-9616; email marcel.bernard@faa.gov.

For legal questions concerning this action, contact Anne Moore, International Law, Legislation, and Regulations Division, Office of the Chief Counsel, AGC-200, Federal Aviation Administration, 800 Independence Avenue SW., Washington, DC 20591; telephone (202) 267-8018; email anne.moore@faa.gov.

SUPPLEMENTARY INFORMATION:

Background

On December 3, 2014, the FAA published a direct final rule regarding use of aviation training devices (ATDs). The direct final rule would have increased the maximum time that may be credited in an ATD toward the instrument time requirements for an instrument rating under § 61.65(i). The direct final rule would have permitted a person to credit a maximum of 20 hours of instrument time in an approved ATD toward the requirements for an instrument rating under that section.

The direct final rule would have also amended appendix C to part 141 to increase the limit on the amount of training hours that may be accomplished in an ATD in an approved course for an instrument rating. With this direct final rule, an ATD would have been permitted to be used for no more than 40 percent of the total flight training hour requirements for an instrument rating.

Finally, the direct final rule would have revised § 61.65(i)(4) to eliminate the requirement that pilots accomplishing instrument time in an ATD wear a view-limiting device.

Withdrawal of Direct Final Rule

The FAA is withdrawing the direct final rule because the agency received adverse comments to the rule. The agency is obligated by § 11.13 to withdraw a direct final rule if the agency receives any adverse comments. One commenter raised concerns regarding the effectiveness of ATDs for training, suggesting that these devices do not provide appropriate sensory cues or provide a realistic environment. Another commenter believed that the increases in time/percentage of training contained in the direct final rule were too great.

As a result of this withdrawal, the current regulations remain in effect, which provides that no applicant for an instrument rating under part 61 may credit more than 10 hours of instrument time in an ATD toward the minimum aeronautical experience requirements required to take the practical test for an instrument rating. In addition, no graduate of a training program approved under appendix C to part 141 may credit more than 10% of the required coursework in ATDs (unless that program has been approved in accordance with § 141.55(d) or (e)).

The FAA notes that the regulations do not place a limit on the amount of time that a person may train in an ATD. Rather, the regulations place a limit on the amount of time in an ATD that may be credited toward the minimum aeronautical experience requirements for an instrument rating. Operators may continue to use these devices to improve pilot proficiency and potentially reduce the overall time required in an aircraft. In addition, those devices that were issued an LOA that terminated on January 1, 2015, may continue to use the device for pilot proficiency and training. However, any time logged in such a device could not be used to meet any aeronautical experience requirements of part 61, or any of the flight training coursework requirements of part 141.

Conclusion

Withdrawal of Amendment Nos. 61-133 and 141-18 does not preclude the FAA from issuing rulemaking on the subject in the future; nor does it commit the agency to any future course of action. The agency will make any future necessary changes to the Code of Federal Regulations through a notice of proposed rulemaking with opportunity for public comment.

Therefore, the FAA withdraws Amendment Nos. 61-133 and 141-18 published at 79 FR 71634, December 3, 2014.

Issued under authority provided by 49 U.S.C. 106(f), 44701(a)(5), and 44703 in Washington, DC, on January 9, 2015.
Michael P. Huerta,
Administrator.

[FR Doc. 2015-00553 Filed 1-14-15; 8:45 am]

BILLING CODE 4910-13-P